DEPARTMENT OF THE INTERIOR

Bureau of Indian Affairs

[223A2100DD/AAKC001030/A0A501010.999900]

Indian Gaming; Approval of 20 Tribal-State Class III Gaming Compact Amendments With the State of Arizona

AGENCY: Bureau of Indian Affairs, Interior.

ACTION: Notice.

SUMMARY: This Notice publishes the approval of the 2022 Amendments to the 2021 class III gaming compacts between the following Tribes: Ak-Chin Indian Community; Cocopah Tribe of Arizona; Colorado River Indian Tribes of the Colorado River Indian Reservation; Fort McDowell Yavapai Nation; Fort Mojave Indian Tribe of Arizona, California & Nevada; Gila River Indian Community of the Gila River Indian Reservation; Havasupai Tribe of the Havasupai Reservation; Hualapai Indian Tribe of the Hualapai Indian Reservation; Kaibab Band of Paiute Indians of the Kaibab Indian Reservation; Navajo Nation; Pascua Yaqui Tribe of Arizona; Quechan Tribe of the Fort Yuma Indian Reservation; Salt River Pima-Maricopa Indian Community of the Salt River Reservation; San Carlos Apache Tribe of the San Carlos Reservation; San Juan Southern Paiute Tribe; Tohono O'odham Nation of Arizona; Tonto Apache Tribe of Arizona; White Mountain Apache Tribe of the Fort Apache Reservation; Yavapai Apache Nation of the Camp Verde Indian Reservation; and the Zuni Tribe of the Zuni Reservation and the State of Arizona (State).

DATES: The compact takes effect on June 14, 2022.

FOR FURTHER INFORMATION CONTACT: Ms. Paula L. Hart, Director, Office of Indian Gaming, Assistant Secretary—Indian Affairs, Washington, DC 20240, paula.hart@bia.gov, (202) 219-4066.

SUPPLEMENTARY INFORMATION: Under section 11 of the Indian Gaming Regulatory Act (IGRA), Public Law 100-497, 25 U.S.C. 2701 et seq., the Secretary of the Interior shall publish in the Federal Register notice of approved Tribal-State compacts for the purpose of engaging in Class III gaming activities on Indian lands. As required by 25 CFR 293.4, all compacts and amendments are subject to review and approval by the Secretary. The 2022 Amendments modify certain definitions and provisions in the 2021 Compact to clarify the understanding of all parties to the agreement that the 2021 Compact was intended to permit the Tribes to offer on-Reservation remote event wagering under IGRA. The 2022 Amendments are approved.

Bryan Newland,
Assistant Secretary—Indian Affairs.

[FR Doc. 2022-12743 Filed 6-13-22; 8:45 am]

BILLING CODE 4337-15-P